DEPARTMENT OF DEFENSE

Department of the Navy

Notice of Intent To Grant Exclusive Patent License: Newport Engineering & Science Company

AGENCY: Department of the Navy, DoD.

ACTION: Special notice.

SUMMARY: The Department of the Navy hereby gives notice of its intent to grant to Newport Engineering and Science Company, a revocable, nonassignable, partially exclusive license to practice throughout the United States the Government-owned inventions described in U.S. Pat. App. Ser. No. 11/296,722 COATING TO REDUCE FRICTION ON SKIS AND SNOWBOARDS filed on December 8, 2005.

DATES: Anyone wishing to object to the grant of this license has fifteen (15) days from the date of this notice to file written objections along with supporting evidence, if any.

ADDRESSES: Written objections are to be filed with the Naval Undersea Warfare Center Division, Newport, 1176 Howell St., Bldg 990, Code 07TP, Newport, RI 02841.

FOR FURTHER INFORMATION CONTACT: Dr. Theresa A. Baus, Head, Technology Partnership Enterprise Office, Naval Undersea Warfare Center Division, Newport, 1176 Howell St., Bldg 990, Code 07TP, Newport, RI 02841, telephone 401-832-8728, or E-Mail: bausta@npt.nuwc.navy.mil.

Authority: 35 U.S.C. 207, 37 CFR part 404.

Dated: February 29, 2008.
T.M. Cruz,
Lieutenant, Office of the Judge Advocate General, U.S. Navy, Federal Register Liaison Officer.

[FR Doc. E8-4502 Filed 3-6-08; 8:45 am]

BILLING CODE 3810-FF-P